DEPARTMENT OF THE TREASURY

Office of Foreign Assets Control

Designation of Three Entities and One Individual Pursuant to Executive Order 13553

AGENCY: Office of Foreign Assets Control, Treasury.

ACTION: Notice.

SUMMARY: The Treasury Department's Office of Foreign Assets Control (“OFAC”) is publishing the names of one individual and three entities newly-designated as persons whose property and interests in property are blocked pursuant to Executive Order 13553 of September 28, 2010, “Blocking Property of Certain Persons With Respect to Serious Human Rights Abuses by the Government of Iran and Taking Certain Other Actions.” The property and interests in property of one of the entities are already blocked pursuant to another OFAC sanctions program.

DATES: The designation by the Director of OFAC of the one individual and three entities identified in this notice, pursuant to Executive Order 13553 of September 28, 2010, is effective June 9, 2011.

FOR FURTHER INFORMATION CONTACT:

Assistant Director, Compliance Outreach & Implementation, Office of Foreign Assets Control, Department of the Treasury, Washington, DC 20220, Tel.: 202/622-2490.

SUPPLEMENTARY INFORMATION:

Electronic and Facsimile Availability

This document and additional information concerning OFAC are available from OFAC's Web site (http://­www.treas.gov/ofac) or via facsimile through a 24-hour fax-on-demand service, Tel.: 202/622-0077.

Background

On September 28, 2010, the President issued Executive Order 13553, “Blocking Property of Certain Persons With Respect to Serious Human Rights Abuses by the Government of Iran and Taking Certain Other Actions” (the “Order”) pursuant to, inter alia, the International Emergency Economic Powers Act (50 U.S.C. 1701-06) and the Comprehensive Iran Sanctions, Accountability, and Divestment Act of 2010 (Pub. L. 111-195). In the Order, the President took additional steps with respect to the national emergency declared in Executive Order 12957 of March 15, 1995.

Section 1 of the Order blocks, with certain exceptions, all property and interests in property that are in the United States, that come within the United States, or that are or come within the possession or control of any United States person, of persons listed in the Annex to the Order and of persons determined by the Secretary of the Treasury, in consultation with or at the recommendation of the Secretary of State, to meet any of the criteria set forth in the Order.

The Annex to the Order listed eight individuals whose property and interests in property are blocked pursuant to the Order.

On June 9, 2011, the Director of OFAC, in consultation with or at the recommendation of the Secretary of State, designated, pursuant to one or more of the criteria set forth in subparagraphs (a)(ii)(A) through (a)(ii)(C) of Section 1 of the Order, one individual and three entities as being blocked pursuant to the Order. As noted above and in the listing below, the property and interests in property of one these entities are already blocked pursuant to another OFAC sanctions program. The listing for these persons is as follows:

Individual

MOGHADAM, Ismail Ahmadi (a.k.a. AHMADI-MOGHADDAM, Esma'il; a.k.a. AHMADI-MOQADDAM, Esma'il; a.k.a. MOGHADDAM, Esmaeel Ahmadi; a.k.a. MOGHADDAM, Ismail Ahmadi); DOB 1961; POB Tehran, Iran; Head of Iranian Police; Chief, Iran's Law Enforcement (individual) [IRAN-HR]

Entities

ISLAMIC REVOLUTIONARY GUARD CORPS (a.k.a. AGIR; a.k.a. IRANIAN REVOLUTIONARY GUARD CORPS; a.k.a. IRG; a.k.a. IRGC; a.k.a. ISLAMIC REVOLUTIONARY CORPS; a.k.a. PASDARAN; a.k.a. PASDARAN-E ENGHELAB-E ISLAMI; a.k.a. PASDARAN-E INQILAB; a.k.a. REVOLUTIONARY GUARD; a.k.a. REVOLUTIONARY GUARDS; a.k.a. SEPAH; a.k.a. SEPAH PASDARAN; a.k.a. SEPAH-E PASDARAN-E ENQELAB-E ESLAMI; a.k.a. THE ARMY OF THE GUARDIANS OF THE ISLAMIC REVOLUTION; a.k.a. THE IRANIAN REVOLUTIONARY GUARDS), Tehran, Iran [NPWMD] [IRGC] [IRAN-HR]

BASIJ RESISTANCE FORCE (a.k.a. BASEEJ; a.k.a. BASIJ-E MELLI; a.k.a. MOBILIZATION OF THE OPPRESSED ORGANIZATION; f.k.a. NATIONAL MOBILIZATION ORGANIZATION; f.k.a. SAZMAN BASIJ MELLI; a.k.a. SAZMAN-E MOGHAVEMAT-E BASIJ; f.k.a. VAHED-E BASIJ-E MOSTAZAFEEN; a.k.a. “NATIONAL RESISTANCE MOBILIZATION”; a.k.a. “RESISTANCE MOBILIZATION FORCE”) [IRGC] [IRAN-HR]

LAW ENFORCEMENT FORCES OF THE ISLAMIC REPUBLIC OF IRAN (a.k.a. IRANIAN LAW ENFORCEMENT FORCES; a.k.a. IRANIAN POLICE; a.k.a. NAJA; a.k.a. NIRUYIH INTIZAMIYEH JUMHURIYIH ISLAMIYIH IRAN) [IRAN-HR]

Dated: June 9, 2011.
Barbara C. Hammerle,
Acting Director, Office of Foreign Assets Control.

[FR Doc. 2011-14713 Filed 6-13-11; 8:45 am]

BILLING CODE 4810-AL-P